DEPARTMENT OF ENERGY

Federal Energy Regulatory Commission

[Docket No. ER04-874-000]

EnerNOC, Inc.; Notice of Filing

May 26, 2004.

Take notice that on May 14, 2004, EnerNOC, Inc. (EnerNOC) tendered for filing Service Agreement No. 1 to EnerNOC's Rate Schedule FERC No. 1, a long-term agreement for Supplemental Installed Capacity for Southwest Connecticut between ISO New England, as agent for the Market Participants in the New England Control Area, and EnerNOC. EnerNOC requested an effective date of June 1, 2004.

The Commission issued a Notice of Filing for this Service Agreement on May 18, 2004, in Docket No. ER04-846-000. The May 18, 2004, Notice of Filing also addressed EnerNOC's request for acceptance of EnerNOC Rate Schedule FERC No. 1 and the request for blanket approvals normally accorded to sellers permitted to sell at market-based rates.

The Commission has determined that the service agreement for Supplemental Installed Capacity for Southwest Connecticut should be redocketed in ER04-874-000. The request for acceptance of EnerNoc Rate Schedule FERC No. 1 and the request for certain blanket approvals will remain docketed in Docket No. ER04-846-000.

Any person desiring to intervene or to protest the agreement for Supplemental Installed Capacity for Southwest Connecticut should file an intervention or protest in Docket No. ER04-874-000. Filings should be sent to the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper;see 18 CFR 385.2001(a)(1)(iii) and the instructions on the Commission's Web site under the “e-Filing” link. The Commission strongly encourages electronic filings.

Comment Date: June 4, 2004.

Magalie R. Salas,
Secretary.

[FR Doc. E4-1243 Filed 6-3-04; 8:45 am]

BILLING CODE 6717-01-P